DEPARTMENT OF ENERGY

Federal Energy Regulatory Commission

Combined Notice of Filings #1

Take notice that the Commission received the following electric rate filings:

Docket Numbers: ER17-323-000.

Applicants: PJM Interconnection, L.L.C.

Description: § 205(d) Rate Filing: Member/Vendor Operating Agreement Section 3.1(b)(iii) Revisions to be effective 1/8/2017.

Filed Date: 11/8/16.

Accession Number: 20161108-5130.

Comments Due: 5 p.m. ET 11/29/16.

Docket Numbers: ER17-324-000.

Applicants: Pinewood Wind, LLC, Long Prairie Wind I, LLC, Rocky Forge Wind, LLC.

Description: Petition for Limited Waiver of Tariff Provisions and Request for Expedited Action of Pinewood Wind, LLC, et al.

Filed Date: 11/8/16.

Accession Number: 20161108-5159.

Comments Due: 5 p.m. ET 11/29/16.

Docket Numbers: ER17-325-000.

Applicants: Arizona Public Service Company.

Description: Tariff Cancellation: Cancellation of Service Agreement No. 355 to be effective 10/10/2016.

Filed Date: 11/9/16.

Accession Number: 20161109-5052.

Comments Due: 5 p.m. ET 11/30/16.

Docket Numbers: ER17-326-000.

Applicants: Southwestern Public Service Company.

Description: § 205(d) Rate Filing: 2016-11-09_SPS-RWSE-ChvCtySlr-680,681-0.1.0-NOC to be effective 11/10/2016.

Filed Date: 11/9/16.

Accession Number: 20161109-5057.

Comments Due: 5 p.m. ET 11/30/16.

Docket Numbers: ER17-327-000.

Applicants: Arizona Public Service Company.

Description: § 205(d) Rate Filing: Service Agreement No. 356, Ocotillo Modernization Project to be effective 10/10/2016.

Filed Date: 11/9/16.

Accession Number: 20161109-5058.

Comments Due: 5 p.m. ET 11/30/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2016.
Nathaniel J. Davis, Sr.,
Deputy Secretary.

[FR Doc. 2016-27484 Filed 11-15-16; 8:45 am]

BILLING CODE 6717-01-P